DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on November 1, 2022, through November 30, 2022. This list provides the name of the petitioner, city, and state of vaccination (if unknown then the city and state of the person or attorney filing the claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with section 2112(b)(2), all interested persons may submit written information relevant to the issues described above in the case of the petitions listed below. Any person choosing to do so should file an original and three (3) copies of the information with the Clerk of the United States Court of Federal Claims at the address listed above (under the heading “For Further Information Contact”), with a copy to HRSA addressed to Director, Division of Injury Compensation Programs, Health Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Carole Johnson,
Administrator.

List of Petitions Filed

1. Holly LaPointe, Wethersfield, Connecticut, Court of Federal Claims No: 22-1627V

2. Daniel Lenehan, Bethel Park, Pennsylvania, Court of Federal Claims No: 22-1629V

3. Marc Wushowunan Livingston, San Diego, California, Court of Federal Claims No: 22-1630V

4. Amy Watkins, Bangor, Maine, Court of Federal Claims No: 22-1632V

5. Mandi J. Bravo, Caldwell, Idaho, Court of Federal Claims No: 22-1633V

6. Barbara Fribush, Boston, Massachusetts, Court of Federal Claims No: 22-1635V

7. Emily Barmichael on behalf of E. C. B., Hollywood, Florida, Court of Federal Claims No: 22-1636V

8. Elisabeth Kelley, Hixson, Tennessee, Court of Federal Claims No: 22-1639V

9. Stephanie Harlow, Little Compton, Rhode Island, Court of Federal Claims No: 22-1640V

10. Stephanie Smith, Wenonah, New Jersey, Court of Federal Claims No: 22-1641V

11. Amy Corneli, Durham, North Carolina, Court of Federal Claims No: 22-1642V

12. Lakeevra Butler, Conyers, Georgia, Court of Federal Claims No: 22-1644V

13. Cherlyn Jensen, Kapolei, Hawaii, Court of Federal Claims No: 22-1645V

14. Sage Comora, Pueblo, Colorado, Court of Federal Claims No: 22-1646V

15. Trudee Ann Mendonca, Riverside, Rhode Island, Court of Federal Claims No: 22-1647V

16. Tamika Boatwright, Ellicott City, Maryland, Court of Federal Claims No: 22-1648V

17. Lynne Guzman on behalf of S. F., Deceased, Phoenix, Arizona, Court of Federal Claims No: 22-1649V

18. Israel Collins, Portland, Maine, Court of Federal Claims No: 22-1650V

19. Catherine Carone on behalf of N. C., Park Ridge, Illinois, Court of Federal Claims No: 22-1651V

20. Miriam Moody, New Bern, North Carolina, Court of Federal Claims No: 22-1652V

21. Allison Roosa, Philadelphia, Pennsylvania, Court of Federal Claims No: 22-1653V

22. Amanda Gray, Charlottesville, Virginia, Court of Federal Claims No: 22-1654V

23. Deana Lasseter, Marietta, Georgia, Court of Federal Claims No: 22-1655V

24. Shea Gillstrap on behalf of A. N., Phoenix, Arizona, Court of Federal Claims No: 22-1658V

25. Lucille Abshire, Inwood, West Virginia, Court of Federal Claims No: 22-1659V

26. Thomas M. Murray and Maria Murray on behalf of M. M., Phoenix, Arizona, Court of Federal Claims No: 22-1660V

27. Erika Franks, Phoenix, Arizona, Court of Federal Claims No: 22-1661V

28. Dajuan Williams, Boscobel, Wisconsin, Court of Federal Claims No: 22-1662V

29. Setsu Korb, San Juan Capistrano, California, Court of Federal Claims No: 22-1665V

30. Kristin Thompson on behalf of K. T., Phoenix, Arizona, Court of Federal Claims No: 22-1667V

31. Mary Harnocz, Phoenix, Arizona, Court of Federal Claims No: 22-1668V

32. Angelina Diaz, Ennis, Texas, Court of Federal Claims No: 22-1669V

33. Sue Cardona on behalf of T. C., Phoenix, Arizona, Court of Federal Claims No: 22-1670V

34. Derek Workman, Maitland, Florida, Court of Federal Claims No: 22-1671V

35. Kathleen Collins, Livonia, Michigan, Court of Federal Claims No: 22-1672V

36. Alice Thierfelder, Marshfield, Wisconsin, Court of Federal Claims No: 22-1674V

37. Susann Frink, Rochester, New York, Court of Federal Claims No: 22-1675V

38. Rosanna Charles, San Jose, California, Court of Federal Claims No: 22-1678V

39. James Command on behalf of the estate of Kathleen Command, Deceased, Grand Rapids, Michigan, Court of Federal Claims No: 22-1679V

40. Vanvette Heath, Brooklyn, New York, Court of Federal Claims No: 22-1680V

41. Ada Mochari, Mineola, New York, Court of Federal Claims No: 22-1681V

42. Corine Jefferson, Akron, Ohio, Court of Federal Claims No: 22-1683V

43. James Dalrymple, Leland, North Carolina, Court of Federal Claims No: 22-1684V

44. Kathy Nicholas, Searcy, Arkansas, Court of Federal Claims No: 22-1685V

45. Georgia Jackson, Meridian, Mississippi, Court of Federal Claims No: 22-1686V

46. Tessa Lee-Thomas, Brooklyn, New York, Court of Federal Claims No: 22-1687V

47. Frances Kerr, Katy, Texas, Court of Federal Claims No: 22-1688V

48. Edwin Hauer, St. Cloud, Minnesota, Court of Federal Claims No: 22-1692V

49. Kimberly Mosley, Charlotte, North Carolina, Court of Federal Claims No: 22-1697V

50. Mary Capri, Lake Forest, Illinois, Court of Federal Claims No: 22-1698V

51. Tobey Nichols, Parkersburg, West Virginia, Court of Federal Claims No: 22-1700V

52. Sicely D. Martin, Lee's Summit, Missouri, Court of Federal Claims No: 22-1702V

53. Lloyd McKay, Houma, Louisiana, Court of Federal Claims No: 22-1703V

54. Megan Bortles, Englewood, Colorado, Court of Federal Claims No: 22-1704V

55. Kelly McClusky on behalf of L. M., Phoenix, Arizona, Court of Federal Claims No: 22-1706V

56. Sarah Grindle, Longmont, Colorado, Court of Federal Claims No: 22-1707V

57. Michael Barnes, Frankenmuth, Michigan, Court of Federal Claims No: 22-1708V

58. Robert Moore, San Jose, California, Court of Federal Claims No: 22-1712V

59. Susan Rogers, Grass Valley, California, Court of Federal Claims No: 22-1714V

60. Staci Metzger, Boston, Massachusetts, Court of Federal Claims No: 22-1715V

61. Ilene Robinson Sunshine, Boston, Massachusetts, Court of Federal Claims No: 22-1717V

62. Janet Wichman, Montrose, California, Court of Federal Claims No: 22-1718V

63. Deborah Butler, Boston, Massachusetts, Court of Federal Claims No: 22-1719V

64. James Winfield, Arthur, Illinois, Court of Federal Claims No: 22-1721V

65. Karl Wittmann, New York, New York, Court of Federal Claims No: 22-1722V

66. Lourdes Irizarry Santiago, Boston, Massachusetts, Court of Federal Claims No: 22-1723V

67. Hanna Battung, Commerce, California, Court of Federal Claims No: 22-1725V

68. Jenna Raimond, Phoenix, Arizona, Court of Federal Claims No: 22-1726V

69. Jessica Fischer, Phoenix, Arizona, Court of Federal Claims No: 22-1727V

70. Trella Adams, Perry, Georgia, Court of Federal Claims No: 22-1728V

71. Sharon H. Rambo, Midlothian, Texas, Court of Federal Claims No: 22-1731V

72. Daniel Goddard, New York, New York, Court of Federal Claims No: 22-1733V

73. Laurie Ryan, Colorado Springs, Colorado, Court of Federal Claims No: 22-1734V

74. Amy McAllister, Columbus, Ohio, Court of Federal Claims No: 22-1735V

75. Joyce Stegall, Flossmoor, Illinois, Court of Federal Claims No: 22-1737V

76. Juanita Fishbaugh, Spokane, Washington, Court of Federal Claims No: 22-1742V

77. Avia McDaniel, Cibolo, Texas, Court of Federal Claims No: 22-1743V

78. Tory Boyer, Wilmette, Illinois, Court of Federal Claims No: 22-1746V

79. John Buonocore, Washington, District of Columbia, Court of Federal Claims No: 22-1747V

80. Margaret Tremba, Greensburg, Pennsylvania, Court of Federal Claims No: 22-1749V

81. Isabella Domotor, Phoenix, Arizona, Court of Federal Claims No: 22-1750V

82. Kelly Wasko, Boston, Massachusetts, Court of Federal Claims No: 22-1751V

83. Laura Cymansky, Denver, Colorado, Court of Federal Claims No: 22-1752V

[FR Doc. 2022-28224 Filed 12-27-22; 8:45 am]

BILLING CODE 4165-15-P